DEPARTMENT OF EDUCATION

Submission for OMB Review; Comment Request

AGENCY: Department of Education.

SUMMARY: The Leader, Regulatory Information Management Group, Office of the Chief Information Officer invites comments on the submission for OMB review as required by the Paperwork Reduction Act of 1995.

DATES: Interested persons are invited to submit comments on or before July 29, 2002.

ADDRESSES: Written comments should be addressed to the Office of Information and Regulatory Affairs, Attention: Karen Lee, Acting Desk Officer, Department of Education, Office of Management and Budget, 725 17th Street, NW., Room 10235, New Executive Office Building, Washington, DC 20503 or should be electronically mailed to the internet address Karen_F._Lee@omb.eop.gov.

SUPPLEMENTARY INFORMATION: Section 3506 of the Paperwork Reduction Act of 1995 (44 U.S.C. chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Leader, Regulatory Information Management Group, Office of the Chief Information Officer, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: June 21, 2002.
John D. Tressler,
Leader, Regulatory Information Management, Office of the Chief Information Officer.

Office of Educational Research and Improvement

Type of Review: Reinstatement, with change, of a previously approved collection for which approval has expired.

Title: 2004 National Survey of Postsectondary Faculty (NSOPF:04): List Collection Procedures and Institution Questionnaire (KA).

Frequency: Other: One time.

Affected Public: Not-for-profit institutions (primary).

Reporting and Recordkeeping Hour Burden:

Response: 100.

Burden Hours: 446.

Abstract: The fourth cycle of the NSOPF is being conducted in response to a continuing need for data on faculty and instructors. The study will provide information about faculty in postsecondary institutions, which is key to learning about the quality of education and research in these institutions. This study will expand the information about faculty and instructional staff in two ways: allowing comparisons to be made over time and examining critical issues surrounding faculty that have developed since the first three studies. This clearance request covers field test and full scale activities for the first phase of the study—collection of lists of current faculty an instructors from sampled postsecondary institutions and a questionnaire to be completed by institution administrative officials to provide information about the context of the institution, such as hiring and promotion practices, policies on benefits, tenure, workload, etc. A second clearance request will be submitted shortly covering the faculty survey materials.

Requests for copies of the submission for OMB review; comment request may be accessed from http://ediscweb.ed.gov, by selecting the “Browse Pending Collections” link and by clicking on link number 2001. When you access the information collection, click on “Download Attachments” to view. Written requests for information should be addressed to Vivian Reese, Department of Education, 400 Maryland Avenue, SW., Room 4050, Regional Office Building 3, Washington, DC 20202-4651 or to the e-mail address vivan.reese.@ed.gov. Requests may also be electronically mailed to the internet address OCIO_RIMG@ed.gov or faxed to 202-708-9346. Please specify the complete title of this information collection when making your request.

Comments regarding burden and/or the collection activity requirements be directed to Kathy Axt at her internet address Kathy.Axt@ed.gov. Individuals who use a telecommunications device for the deaf (TDD) may call the Federal Information Relay Service (FIRS) at 1-800-877-8339.

Office of Civil Rights

Type of Review: Reinstatement.

Title: 2002 Elementary and Secondary School Survey (also referred to as the Elementary and Secondary School Civil Rights Compliance Report).

Frequency: Biennially.

Affected Public: State, local, or tribal gov't; SEAs or LEAs.

Reporting and Recordkeeping Hour Burden:

Responses: 33,000.

Burden Hours: 337,500.

Abstract: The Elementary and Secondary School Survey (E&S Survey) is a biennial survey which collects data from schools and school districts on issues of interest to the Office for Civil Rights, U.S. Department of Education. The E&S Survey is the instrument used by OCR to obtain trend data regarding the nation's public elementary and secondary schools. Data from the survey is used by social scientists conducting research on discrimination, and by civil rights and other groups monitoring issues related to their programs. The survey collects data related to Title VI of the Civil Rights Act of 1964 (which prohibits discrimination on the basis of race, color, or national origin), Title IX of the Education Amendments of 1972 (which prohibits discrimination on the basis of sex) and Section 504 of the Rehabilitation Act of 1973 (which prohibits discrimination on the basis of handicap).

On January 17, 2002 a Notice of Proposed Information Collection and request for public comment for the Fall 2002 Elementary and Secondary Civil Rights Compliance Report was published in the Federal Register. That proposed data collection included three new tables regarding the collection of student performance assessment data. The Department is no longer proposing to collect this data as part of the 2002 Elementary and Secondary Civil Rights Compliance Report which has been revised accordingly.

Requests for copies of the submissions for OMB review; comment request may be accessed from http://edicsweb.ed.gov, by selecting the “Browse Pending Collections” link and by clicking on link number 1902. When you access the information collection, click on “Download Attachments” to view. Written requests for information should be addressed to Vivian Reese, Department of Education, 400 Maryland Avenue, SW., Room 4050, Regional Office Building 3, Washington, DC 20202-4651 or to the e-mail address vivan.reese@ed.gov. Requests may also be electronically mailed to the internet address OCIO_RIMG@ed.gov or faxed to 202-708-9346. Please specify the complete title of the information collection when making your request.

Comments regarding burden and/or the collection activity requirements should be directed to Jacqueline Montague at her internet address Jackie.Montague@ed.gov. Individuals who use a telecommunications device for the deaf (TDD) may call the Federal Information Relay Service (FIRS) at 1-800-877-8339.

[FR Doc. 02-16196 Filed 6-26-02; 8:45 am]

BILLING CODE 4000-01-M